FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 017555F.

Name: AM Express, Inc.

Address: 2928-B Greens Road, Suite 450, Houston, TX 77032.

Date Revoked: August 15, 2005.

Reason: Failed to maintain a valid bond.

License Number: 003590F.

Name: Action International, Inc.

Address: 8933 NW. 23rd Street, Miami, FL 33172.

Date Revoked: August 31, 2005.

Reason: Failed to maintain a valid bond.

License Number: 018387NF.

Name: Angel's Maritime Services Inc.

Address: 6630 Harwin Drive, Suite 108, Houston, TX 77036.

Date Revoked: July 21, 2005.

Reason: Surrendered license voluntarily.

License Number: 002863F.

Name: Associated Customhouse Brokers, Inc.

Address: 4101 Ravenswood Road, Suite 108, Dania, FL 33312.

Date Revoked: August 18, 2005.

Reason: Failed to maintain a valid bond.

License Number: 001833N.

Name: Commodity Forwarders, Inc.

Address: 11101 South La Cienega Blvd., Los Angeles, CA 90045.

Date Revoked: September 5, 2005.

Reason: Failed to maintain a valid bond.

License Number: 003296N.

Name: Consuelo E. Kelly dba Kelly International.

Address: 10257 Switzer, Overland Park, KS 66212.

Date Revoked: August 26, 2005.

Reason: Failed to maintain a valid bond.

License Number: 001225F.

Name: Gaylor International Corp.

Address: 29-16 165th Street, Flushing, NY 11358-1432.

Date Revoked: July 31, 2005.

Reason: Surrendered license voluntarily.

License Number: 018473F.

Name: Global U.S.A., Inc.

Address: 32 Broadway, Suite 1714, New York, NY 10004.

Date Revoked: September 14, 2005.

Reason: Failed to maintain a valid bond.

License Number: 019360N.

Name: International Express, Inc.

Address: 11435 NE. 34th Street, Miami, FL 33178.

Date Revoked: August 17, 2005.

Reason: Failed to maintain a valid bond.

License Number: 018657NF.

Name: International Freight Management, LLC.

Address: 1840 Gateway Drive, Suite 200, San Mateo, CA 94404.

Date Revoked: September 9, 2005.

Reason: Failed to maintain valid bonds.

License Number: 007881NF.

Name: (John) Kyungsoo Lee dba Trans World Freight Services dba California Express dba Albatross Logistics.

Address: 550 E. Carson Plaza Drive, Suite 201, Carson, CA 90746.

Date Revoked: July 31, 2005.

Reason: Failed to maintain valid bonds.

License Number: 017408F.

Name: Maraly International Corp.

Address: 7206 NW 84th Avenue, Miami, FL 33166.

Date Revoked: August 10, 2005.

Reason: Failed to maintain a valid bond.

License Number: 003735F.

Name: Marco Trans Corporation.

Address: 7 Dey Street, New York, NY 10007.

Date Revoked: September 12, 2005.

Reason: Failed to maintain a valid bond.

License Number: 018410F.

Name: Onebin.Com, Inc.

Address: 3406 SW 26 Terrace, Unit C-10, Fort Lauderdale, FL 33312.

Date Revoked: September 7, 2005.

Reason: Failed to maintain a valid bond.

License Number: 016940F.

Name: PLS International LP.

Address: c/o Pittsburg Logistics Systems, Inc., The Quad Center, Rochester, PA 15074.

Date Revoked: September 15, 2005.

Reason: Surrendered license voluntarily.

License Number: 018332F.

Name: Pioneer Logistics, Inc.

Address: 2300 Higgins Road, Suite 204, Elk Grove Village, IL 60007.

Date Revoked: August 25, 2005.

Reason: Failed to maintain a valid bond.

License Number: 018948NF.

Name: Reliable International Logistics, Inc.

Address: 33442 Western Avenue, Union City, CA 94587.

Date Revoked: August 14, 2005.

Reason: Failed to maintain valid bonds.

License Number: 009602N.

Name: Sea Traders Line, Inc.

Address: 2350 North Sam Houston Pkwy East, Suite 750, Houston, TX 77032.

Date Revoked: September 15, 2005.

Reason: Failed to maintain a valid bond.

License Number: 019102N.

Name: Starlink Consolidation Service (New York), Inc.

Address: JFK Cargo Area, Bldg., #75, North Hangar Rd., Suite #230, Jamaica, NY 11430.

Date Revoked: July 26, 2005.

Reason: Surrendered license voluntarily.

License Number: 004408F.

Name: Richard A. Banuelos dba Surface Sea Forwarding.

Address: 8432 Lindante Drive, Whittier, CA 90903.

Date Revoked: August 29, 2005.

Reason: Surrendered license voluntarily.

Sandra L. Kusumoto,
Director, Bureau of Certification and Licensing.

[FR Doc. 05-19367 Filed 9-27-05; 8:45 am]

BILLING CODE 6730-01-P